DEPARTMENT OF TRANSPORTATION

Federal Aviation Administration

14 CFR Part 39

[Docket No. 97-CE-99-AD; Amendment 39-11534; AD 2000-02-16]

RIN 2120-AA64

Airworthiness Directives; Short Brothers and Harland Ltd. Models SC-7 Series 2 and SC-7 Series 3 Airplanes

AGENCY: Federal Aviation Administration, DOT.

ACTION: Final rule.

SUMMARY: This amendment adopts a new airworthiness directive (AD) that applies to all Short Brothers and Harland Ltd. (Shorts) Models SC-7 Series 2 and SC-7 Series 3 airplanes. This AD requires you to repetitively inspect the wing attachment bushes in the fuselage front and rear spar frames for migration (gaps), and replace the bushes if a gap exists that is of a certain length or more. This AD is the result of mandatory continuing airworthiness information (MCAI) issued by the airworthiness authority for the United Kingdom. The actions specified by this AD are intended to detect and correct migration of the wing attachment bushes in the fuselage front and rear spar frames, which could result in structural damage to the wing spar/fuselage fitting with possible loss of control of the airplane.

DATES: Effective March 20, 2000.

The Director of the Federal Register approved the incorporation by reference of certain publications listed in the regulations as of March 20, 2000.

ADDRESSES: You may get the service information referenced in this AD from Short Brothers plc, P.O. Box 241, Airport Road, Belfast BT3 9DZ, Northern Ireland. You may examine this information at the FAA, Central Region, Office of the Regional Counsel, Attention: Rules Docket No. 97-CE-99-AD, 901 Locust, Room 506, Kansas City, MO 64106; or at the Office of the Federal Register, 800 North Capitol Street, NW, suite 700, Washington, DC.

FOR FURTHER INFORMATION CONTACT: Mr. Roger Chudy, Aerospace Engineer, FAA, Small Airplane Directorate, 901 Locust, Room 301, Kansas City, Missouri 64106; telephone: (816) 329-4140; facsimile: (816) 329-4090.

SUPPLEMENTARY INFORMATION:

Events Leading to the Issuance of This AD

What caused this AD? This AD is the result of reports of migration in the wing attachment bushes in the front and rear spar frames of Shorts Models SC-7 Series 2 and SC-7 Series 3 airplanes.

What is the potential impact if the FAA took no action? These actions are necessary to detect and correct migration of the wing attachment bushes in the fuselage front and rear spar frames. If we did not take action, this could result in structural damage to the wing spar/fuselage fitting with possible loss of control of the airplane.

Has the FAA taken any action to this point? Yes. We issued a proposal to amend part 39 of the Federal Aviation Regulations (14 CFR part 39) to include an AD that would apply to all Shorts Models SC-7 Series 2 and SC-7 Series 3 airplanes. This proposal was published in the Federal Register as a notice of proposed rulemaking (NPRM) on September 28, 1999 (64 FR 52263). The NPRM proposed to require repetitively inspecting the wing attachment bushes in the fuselage front and rear spar frames for migration (gaps), and replacing the bushes if a gap exists that is of a certain length or more. Accomplishment of the proposed action as specified in the NPRM would be in accordance with Shorts Service Bulletin 53-68.

Was the public invited to comment? Yes. Interested persons were afforded an opportunity to participate in the making of this amendment. No comments were received on the proposed rule or the FAA's determination of the cost to the public.

What is the FAA's Final Determination on this issue? We carefully reviewed all available information related to the subject presented above and determined that air safety and the public interest require the adoption of the rule as proposed except for minor editorial corrections. We determined that these minor corrections:

—Will not change the meaning of the AD; and

—Will not add any additional burden upon the public than was already proposed.

Cost Impact

How many airplanes does this AD impact? We estimate that 22 airplanes in the U.S. registry will be affected by the initial inspection.

What is the cost impact of the affected airplanes on the U.S. Register? We estimate that it will take approximately 10 workhours per airplane to accomplish the inspection, and that the average labor rate is approximately $60 an hour. Based on these figures, the total cost impact of the initial inspection on U.S. operators is estimated to be $13,200, or $600 per airplane.

These figures only take into account the cost of the initial inspections and do not account for the cost of repetitive inspections or the cost necessary to replace any bushings when gaps that exceed a certain length are found. The FAA has no way of determining the number of repetitive inspections or replacements each owner/operator will incur over the life of the affected airplanes.

Regulatory Impact

The regulations adopted herein will not have a substantial direct effect on the States, on the relationship between the national government and the States, or on the distribution of power and responsibilities among the various levels of government. Therefore, it is determined that this final rule does not have federalism implications under Executive Order 13132

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. The FAA has prepared a final evaluation and placed it in the Rules Docket. You can get a copy of this evaluation at the location listed under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2000-02-16 Short Brothers and Harland Ltd. Amendment 39-11534; Docket No. 97-CE-99-AD.

(a) What airplanes are affected by this AD? Models SC-7 Series 2 and SC-7 Series 3 airplanes, all serial numbers, certificated in any category.

(b) Who must comply with this AD? Anyone who wishes to operate any of the above airplanes on the U.S. Register.

(c) What problem does this AD address? These actions are necessary to detect and correct migration of the wing attachment bushes in the fuselage front and rear spar frames. If we did not take action, this could result in structural damage to the wing spar/fuselage fitting with possible loss of control of the airplane.

(d) What must I do to address this problem? To address this problem, you must accomplish the following, as applicable:

(1) Initial Requirements

(i) What actions are required? Inspect the wing attachment bushes in the fuselage front and rear spar frames for migration.

(ii) When is the action required? Within the next 100 hours time-in-service (TIS) after the effective date of this AD.

(2) Repetitive Requirements

(i) What if no gaps are found at the bush areas during any inspection required by this AD? Repeat the inspection specified in paragraph (d)(1)(i) of this AD at intervals not to exceed 500 hours TIS.

(ii) What if any gap is found at the bush area that is less than 0.125 inches in length during any inspection required by this AD? Repeat the inspection specified in paragraph (d)(1)(i) of this AD at intervals not to exceed 100 hours TIS provided the gaps do not increase to 0.125 inches or more in length. If the gap has not increased during 3 additional inspections and continue to not increase, then the inspection intervals may be increased to 500 hours TIS.

(iii) What if any gap is found at the bush areas that is 0.125 inches or more in length during any inspection required by this AD? Prior to further flight, replace the bushes with parts specified in the service information identified in this AD. Inspect the replacement bushes at intervals not to exceed 500 hours TIS in accordance with paragraph (d)(1)(i) of this AD.

(e) What procedures must be used to accomplish all actions of this AD? Shorts Service Bulletin No. 53-68, which incorporates the following pages:

Pages | Revision level | Date
6, 7, 8, 9, 10, 13, 14, 17, 18, 19, 20, 21, 22, 23, 24, and 25 | Original Issue | January 10, 1996.
12 | Revision No. 1 | May 30, 1996.
3 | Revision No. 2 | September 1998.
1, 2, 4, 5, 11, 15, and 16 | Revision No. 3 | May 1999.

(f) Can I comply with this AD in any other way? Yes.

(1) You may use an alternative method of compliance or adjust the compliance time if:

(i) Your alternative method of compliance provides an equivalent level of safety; and

(ii) The Manager, Small Airplane Directorate, approves your alternative. Submit your request through an FAA Principal Maintenance Inspector, who may add comments and then send it to the Manager, Small Airplane Directorate.

(2) This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f)(1) of this AD. The request should include an assessment of the effect of the modification, alteration, or repair on the unsafe condition addressed by this AD; and, if you have not eliminated the unsafe condition, specific actions you propose to address it.

(g) Where can I get information about any already-approved alternative methods of compliance? Contact the Small Airplane Directorate, 901 Locust, Room 301, Kansas City, Missouri 64106; telephone: (816) 329-4140; facsimile: (816) 329-4090.

(h) What if I need to fly the airplane to another location to comply with this AD? The FAA can issue a special flight permit under sections 21.197 and 21.199 of the Federal Aviation Regulations (14 CFR 21.197 and 21.199) to operate your airplane to a location where you can accomplish the requirements of this AD.

(i) Who should I contact if I have questions regarding the service information? Direct all questions or technical information related to Shorts Service Bulletin 53-68, to Short Brothers plc, P.O. Box 241, Airport Road, Belfast BT3 9DZ, Northern Ireland. You may examine this service information at the FAA, Central Region, Office of the Regional Counsel, 901 Locust, Room 506, Kansas City, Missouri 64106.

(j) Are any service bulletins incorporated into this AD by reference? Yes. You must accomplish the actions required by this AD in accordance with Shorts Service Bulletin 53-68, which incorporates the following pages:

Pages | Revision level | Date
6, 7, 8, 9,10, 13, 14, 17, 18, 19, 20, 21, 22, 23, 24, and 25 | Original Issue | January 10, 1996.
12 | Revision No. 1 | May 30, 1996.
3 | Revision No. 2 | September 1998.
1, 2, 4, 5, 11, 15, and 16 | Revision No. 3 | May 1999.

The Director of the Federal Register approved this incorporation by reference under 5 U.S.C. 552(a) and 1 CFR part 51. You can get copies from Short Brothers plc, P.O. Box 241, Airport Road, Belfast BT3 9DZ, Northern Ireland. You can look at copies at the FAA, Central Region, Office of the Regional Counsel, 901 Locust, Room 506, Kansas City, Missouri, or at the Office of the Federal Register, 800 North Capitol Street, NW, suite 700, Washington, DC.

(k) Has the airworthiness authority for the State of Design addressed this action? Yes. The subject of this AD is addressed in British Airworthiness Directive 009-01-96, not dated.

(l) When does this amendment become effective? This amendment becomes effective on March 20, 2000.

Issued in Kansas City, Missouri, on January 20, 2000.
Michael Gallagher,
Manager, Small Airplane Directorate, Aircraft Certification Service.

[FR Doc. 00-2001 Filed 1-31-00; 8:45 am]

BILLING CODE 4910-13-U